DEPARTMENT OF JUSTICE

Antitrust Division

Notice Pursuant to the National Cooperative Research and Production Act of 1993—Portable Lights American Trade Organization

Notice is hereby given that, on May 14, 2018, pursuant to Section 6(a) of the National Cooperative Research and Production Act of 1993, 15 U.S.C. 4301 et seq. (“the Act”), Portable Lights American Trade Organization (“PLATO”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Portable Lights American Trade Organization, St. Paul, MN. The nature and scope of PLATO's standards development activities are: Basic performance requirements for hand-held, portable flashlights, spotlights and headlamps that provide directional lighting. It includes relevant definitions, test methods and marking requirements in order to establish minimum performance for these consumer devices. The project will consider expanding the scope to include portable area lights in addition to directional lighting, as well as any relevant updates needed for test methods.

Patricia A. Brink,
Director of Civil Enforcement, Antitrust Division.

[FR Doc. 2018-13059 Filed 6-18-18; 8:45 am]

BILLING CODE 4410-11-P